DEPARTMENT OF JUSTICE

Immigration and Naturalization Service

[INS 2119-01]

Effective Date of the Revised Form I-129W

AGENCY: Immigration and Naturalization Service, Justice.

ACTION: Notice.

SUMMARY: This notice announces that, effective April 13, 2001, the Immigration and Naturalization Service (INS) will only accept the December 18, 2000, version of Form I-129W, H-1B Data Collection and Filing Fee Exemption. Prior editions of the form will not be accepted. Form I-129W is a supplemental form designed by the INS to capture essential information required for the adjudication of Form I-129, Petition for Nonimmigrant Worker. The information captured on Form I-129W is required as a result of recent legislation.

DATES: This notice is effective April 13, 2001.

FOR FURTHER INFORMATION CONTACT: John W. Brown, Adjudications Officer, Immigration and Naturalization Service, 425 I Street, NW., Room 3214, Washington, DC 20536, telephone (202) 353-8177.

SUPPLEMENTARY INFORMATION:

Background

Who Is an H-1B Nonimmigrant?

An H-1B nonimmigrant is an alien employed in a specialty occupation or a fashion model of distinguished merit and ability. A specialty occupation is an occupation that requires theoretical and practical application of a body of specialized knowledge and attainment of a bachelor's or higher degree in the specific specialty as a minimum for entry into the United States.

What Is a Form I-129W?

Form I-129W, H-1B Data Collection and Filing Fee Exemption, is a supplemental form designed by the INS to capture essential information required for the adjudication of Form I-129, Petition for Nonimmigrant Worker. The information captured on Form I-129W is required as a result of the passage of three bills: The American Competitiveness and Workforce Improvement Act of 1998, Public Law 105-277 (ACWIA); An Act to increase the amount of fees charged to employers who are petitioners for the employment of H-1B nonimmigrant workers, Public Law 106-311; and the American Competitiveness in the Twenty-First Century Act, Public Law 106-313 (AC21). The Form I-129W also captures information required by the INS to compile reports required by Congress. The INS is presently modifying Form I-129 in order to capture the information requested on Form I-129W. When this effort is completed, the Form I-129W will no longer be used. Once Form I-129 is revised, INS will publish these proposed changes in a future edition of the Federal Register for public comment in accordance with the requirements of the Paperwork Reduction Act.

What Does This Notice Do?

This notice announces that as of April 13, 2001, the INS will only accept December 18, 2000, versions of Form I-129W. Earlier versions of the Form I-129W that are submitted after April 13, 2001 will not be accepted. The INS will reject a Form I-129 that is not accompanied by the correct version of Form I-129W.

Dated: March 23, 2001.
Mary Ann Wyrsch,
Acting Commissioner, Immigration and Naturalization Service.

[FR Doc. 01-7842 Filed 3-29-01; 8:45 am]

BILLING CODE 4410-10-M